FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 011463-011.

Title: East Coast North America to West Coast South America and Caribbean Cooperative Working Agreement.

Parties: Hamburg Sudamerikanische Dampfschifffahrts-Gesellschaft KG d/b/a CCNI; Hamburg-Sudamerikanische Dampfschifffahrts-Gesellschaft KG and Hapag-Lloyd AG.

Filing Party: Wayne R. Rohde, Esq.; Cozen O'Conner; 1627 I Street NW., Suite 1100; Washington, DC 20006-4007.

Synopsis: The amendment makes technical corrections to the agreement and restates the agreement.

Agreement No.: 012327-001.

Title: “K” Line/WHL/WHS/PIL Space Charter and Sailing Agreement

Parties: Kawasaki Kisen Kaisha, Ltd.; Wan Hai Lines (Singapore) PTE Ltd.; Wan Hai Lines Ltd.; Pacific International Lines (PTE) Ltd.

Filing Party: Eric. C. Jeffrey, Esq.; Nixon Peabody LLP; 401 9th Street NW., Suite 900; Washington, DC 20004.

Synopsis: The amendment updates language in the agreement concerning operational coordination with third parties using slots provided by the agreement parties.

Agreement No.: 012337.

Title: HSDG/Zim ECSA Space Charter Agreement.

Parties: Hamburg Sud; and Zim Integrated Shipping Services, Ltd.

Filing Party: Wayne R. Rohde, Esq.; Cozen O'Conner; 1627 I Street NW., Suite 1100; Washington, DC 20006-4007.

Synopsis: The agreement authorizes Hamburg Sud to charter space to Zim in the trade between the U.S. Gulf Coast, on the one hand, and Panama, Mexico, Colombia, and Brazil, on the other hand.

Agreement No.: 012338.

Title: Sealand/APL Caribbean Slot Charter Agreement.

Parties: Maersk Line A/S dba Sealand; and APL Co. Pte Ltd; and American President Lines, Ltd. (collectively APL).

Filing Party: Wayne R. Rohde, Esq.; Cozen O'Conner; 1627 I Street NW., Suite 1100; Washington, DC 20006-4007.

Synopsis: The agreement authorizes Sealand to charter space to APL in the trade between Puerto Rico, on the one hand, and Panama, the Dominican Republic, Costa Rica, on the other hand.

Agreement No.: 012339.

Title: Sealand/APL West Coast of Central America Slot Charter Agreement.

Parties: Maersk Line A/S dba Sealand; and APL Co. Pte Ltd; and American President Lines, Ltd. (collectively APL).

Filing Party: Wayne R. Rohde, Esq.; Cozen O'Conner; 1627 I Street NW., Suite 1100; Washington, DC 20006-4007.

Synopsis: The agreement authorizes Sealand to charter space to APL in the trade between California and Mexico.

Agreement No.: 012340.

Title: Hapag-Lloyd/Zim ECSA Space Charter Agreement.

Parties: Hapag-Lloyd AG and Zim Integrated Shipping Services, Ltd.

Filing Party: Wayne R. Rohde, Esq.; Cozen O'Conner; 1627 I Street NW., Suite 1100; Washington, DC 20006-4007.

Synopsis: The agreement authorizes Hapag-Lloyd to charter space to Zim in the trade between the U.S. Gulf Coast, on the one hand, and Mexico, the Dominican Republic, Colombia, Brazil, Argentina, and Uruguay, on the other hand.

Agreement No.: 012341.

Title: Network Shipping Ltd./Cool Carriers AB Space Charter and Sailing Agreement.

Parties: Network Shipping Ltd. and Cool Carriers AB.

Filing Party: Antonio Fernandez; Network Shipping; 241 Sevilla Ave.; Coral Cables, FL 33134.

Synopsis: The agreement authorizes Network Shipping to charter space to Cool Carriers AB for the carriage of empty refrigerated containers in the trade between Port Hueneme, CA and Ecuador, and in the trade between Port Gloucester, NJ and Costa Rica.

Agreement No.: 012342.

Title: COSCON/NYK Equipment Repositioning Agreement.

Parties: COSCO Container Lines Co. Ltd. and Nippon Yusen Kaisha.

Filing Party: Eric. C. Jeffrey, Esq.; Nixon Peabody LLP; 401 9th Street NW., Suite 900; Washington, DC 20004.

Synopsis: The agreement authorizes the parties to charter space to each other for the repositioning of equipment in the trade from the U.S. to China (including Hong Kong), Thailand, Taiwan, Japan, Korea, Vietnam, Malaysia, Indonesia and Singapore.

Agreement No.: 012343.

Title: PIL/MELL Space Charter and Sailing Agreement.

Parties: Pacific International Lines (PTE) Ltd.; and Mariana Express Lines (PTE) Ltd.

Filing Party: Eric. C. Jeffrey, Esq.; Nixon Peabody LLP; 401 9th Street NW., Suite 900; Washington, DC 20004.

Synopsis: The agreement authorizes the parties to share space in the trade between China and the U.S. West Coast.

Agreement No.: 201227-002.

Title: Pacific Ports Operational Improvements Agreement.

Parties: Ocean Carrier Equipment Management Association, Inc.; West Coast MTO Agreement; Maersk Line A/S; APL Co. Pte Ltd.; American President Lines, Ltd.; CMA CGM S.A.; Cosco Container Lines Company Limited; Evergreen Line Joint Service Agreement FMC Agreement No. 011982; Hamburg-Sud; Alianca Navegacao e Logistica Ltda.; Hanjin Shipping Co., Ltd.; Hapag-Lloyd AG; Hapag-Lloyd USA; Companhia Libra de Navegacao; Compania Libra de Navegacion Uruguay S.A.; Mitsui O.S.K. Lines, Ltd.; Nippon Yusen Kaisha Line; Kawasaki Kisen Kaisha, Ltd.; Hyundai Merchant Marine Co., Ltd.; Zim Integrated Shipping Services; Matson Navigation Company, Inc.; APM Terminals Pacific, Ltd.; California United Terminals, Inc.; Eagle Marine Services, Ltd.; International Transportation Service, Inc.; Long Beach Container Terminal, Inc.; Seaside Transportation Service LLC; Total Terminals LLC; West Basin Container Terminal LLC; Pacific Maritime Services, LLC; SSA Terminal (Long Beach), LLC; Trapac Inc.; Yusen Terminals, Inc.; SSA Terminals, LLC; SSA Terminal (Oakland), LLC; SSA Terminals (Seattle), LLC; Sea Star Stevedoring Company, Inc.; Washington United Terminals, Inc.

Filing Party: Jeffrey F. Lawrence, Esq.; Cozen O'Connor; 1627 I Street NW., Suite 1100; Washington, DC 20006.

Synopsis: The Amendment would add China Shipping Container Lines, Co., Ltd. and China Shipping Container Lines (Hong Kong) Co., Ltd. as ocean carrier parties to the agreement, and Ports America Outer Harbor Terminal, LLC as a marine terminal operator party to the Agreement. The parties have requested Expedited Review.

By Order of the Federal Maritime Commission.
Dated: May 29, 2015.
Karen V. Gregory,
Secretary.

[FR Doc. 2015-13508 Filed 6-3-15; 8:45 am]

BILLING CODE 6731-AA-P